DEPARTMENT OF ENERGY

Federal Energy Regulatory Commission

[Docket No. CP18-11-000]

East Cheyenne Gas Storage, LLC; Notice of Schedule for Environmental Review of the Lewis Creek Amendment

On October 27, 2017, East Cheyenne Gas Storage, LLC (East Cheyenne) filed an application in Docket No. CP18-11-000 requesting a Certificate of Public Convenience and Necessity pursuant to Section 7(c) of the Natural Gas Act to construct and operate certain natural gas pipeline facilities. The proposed project, known as the Lewis Creek Amendment Project (Project), would combine the working gas capacity and cushion gas capacity for the West Peetz and Lewis Creek Storage Fields and utilize the same maximum bottom-hole pressure, thus eliminating separately certified capacities for each field. East Cheyenne requests this amendment because recent geologic information shows that the West Peetz and Lewis Creek D-sands in the storage field are a single integrated reservoir. As part of this consolidation, East Cheyenne would reconfigure certain natural gas facilities in the Lewis Creek Storage Field; and expand the authorized buffer zone of the East Cheyenne Project.

On November 8, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, March 30, 2018.

90-day Federal Authorization Decision Deadline, June 28, 2018.

If a schedule change becomes necessary, additional notice will be provided so that the relevant agencies are kept informed of the Project's progress.

Project Description

East Cheyenne is requesting authorization to amend its certificate previously issued in Docket No. CP10-34-000, for the East Cheyenne Gas Storage Project in Logan County, Colorado. As part of the West Peetz and Lewis Creek Field consolidation, East Cheyenne would reconfigure the well layout on the Lewis Creek portion of the Project by reducing the number of injection/withdrawal (I/W) wells by consolidating the wells on a single well pad, and reconfiguring the currently certificated Lewis Creek monitoring wells. Specifically, East Cheyenne would reconfigure the I/W well in the Lewis Creek portion of the project by converting one existing non-jurisdictional well to an I/W well (LC-D021) and collocating five directionally drilled I/W wells (LC-D022, LC-D023, LC-D024, LC-D025, and LC-D026) on the LC-2021 well pad. Additionally, East Cheyenne would decrease the total cushion gas capacity to 12.1 billion cubic feet and increase the total working gas capacity to 22.5 billion cubic feet. East Cheyenne would also reconfigure its existing pipelines and reduce the diameter of the existing 20-inch-diameter natural gas mainline to a 16-inch-diameter pipeline. Furthermore, East Cheyenne would reconfigure the existing 16-inch diameter Lewis Creek natural gas mainline and the 6-inch-diameter water disposal pipeline to connect directly to the reconfigured I/W wells LC-D021 through LC-D026 on a single well pad.

Background

On December 8, 2017, the Commission issued a Notice of Intent to Prepare an Environmental Assessment for the Proposed Lewis Creek Amendment and Request for Comments on Environmental Issues (NOI). The NOI was sent to affected landowners; federal, state, and local government agencies; elected officials; environmental and public interest groups; Native American tribes; other interested parties; and local libraries and newspapers. In response to the NOI, the Commission received comments from the Bureau of Land Management and the Logan County Economic Development Corporation support the applicant's request.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-11), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: February 8, 2018.
Kimberly D. Bose,
Secretary.

[FR Doc. 2018-03012 Filed 2-13-18; 8:45 am]

BILLING CODE 6717-01-P